NATIONAL AERONAUTICS AND SPACE ADMINISTRATION

[Notice 01-069]

Government-Owned Inventions, Available for Licensing

AGENCY: National Aeronautics and Space Administration

ACTION: Notice of availability of inventions for licensing.

SUMMARY: The inventions listed below are assigned to the National Aeronautics and Space Administration, have been filed in the United States Patent and Trademark Office, and are available for licensing.

DATE(S): June 14, 2001.

FOR FURTHER INFORMATION CONTACT: James McGroary, Patent Counsel, Marshall Space Flight Center, Code LS01, Huntsville, AL 35812; telephone (256) 544-0013, fax (256) 544-0258.

NASA Case No. MFS-31186-2: Power Divider for Harmonically Rich Wave Forms

NASA Case No. MFS-31294-7: Process for Producing A Cast Article from A Hypereutectic Aluminum-Silicon Alloy;

NASA Case No. MFS-31561-1: Laser Image Contrast Enhancement System (LICES).

Dated: June 4, 2001.
Edward A. Frankle
General Counsel.

[FR Doc. 01-15012 Filed 6-13-01; 8:45 am]

BILLING CODE 7510-01-P